DEPARTMENT OF HEALTH AND HUMAN SERVICES

Health Resources and Services Administration

HRSA-03-019 Fiscal Year 2003 Geriatric Academic Career Awards (GACA)—CFDA 93.250

AGENCY: Health Resources and Services Administration.

ACTION: Notice.

SUMMARY: The Health Resources and Services Administration (HRSA) announces that applications will be accepted for the second of two solicitations for the Geriatric Academic Career Awards Program for Fiscal Year 2003.

Purpose: The purpose of this program is to increase the number of junior faculty in geriatrics at accredited schools of medicine and osteopathic medicine and to promote their careers as academic geriatricians. The GACA stipend supports the career development of junior faculty members for a period of five years.

Authorizing Legislation: These applications are solicited under the authority of Title VII, section 753 (c), of the Public Health Service Act (PHS), (42 U.S.C. 294c).

Eligible Applicants: Geriatric Academic Career Awards are provided for individuals who meet the following criteria: (1) Are board certified or board eligible in internal medicine, family practice, or psychiatry; (2) have completed an approved fellowship program in geriatrics; and (3) have a junior faculty appointment at an accredited school of medicine (allopathic or osteopathic).

Funding Priorities and/or Preferences: None.

Service Requirements: Award recipients agree to serve as members of the faculties of accredited schools of allopathic or osteopathic medicine providing teaching services, within the service requirements under this award, for up to 5 years. Prior to submitting an application for the Geriatric Academic Career Award, individuals must have an agreement with an eligible school setting forth the terms and conditions of the award. The agreement with the school must permit the individual to serve as a full-time (as determined by the school) member of the faculty, for not less than the period of the award. As provided in section 753 (c)(5), an individual who receives an award shall provide training in clinical geriatrics, including the training of interdisciplinary teams of health care professionals. The provision of such training shall constitute at least 75 percent of the obligations of the individual under this award. Geriatric career awards are made directly to individuals, not institutions.

Review Criteria

(1) Extent to which the applicant's career goals as identified in the career development plan meet the purpose of the Geriatric Academic Career Award—to develop into an academic geriatrician who emphasizes teaching geriatrics, including teaching interdisciplinary teams—and the quality of the applicant's plan for assessing his or her own progress toward meeting career goals; (Maximum Value: 20 points)

(2) Potential of the applicant to achieve identified goals and objectives based on past training and experience; (Maximum: 20 points)

(3) Extent to which specific plans will result in (a) meeting the statutory service requirement (75% time pursuing the goals of the GACA), (b) interacting with and learning from other clinician-educators locally and nationally, and (c) obtaining the necessary pedagogical skills to achieve career goals; (Maximum Value: 20 points)

(4) Extent to which specific plans will result in research and/or publication opportunities and productivity in national professional societies; (Maximum Value: 20 points)

(5) Extent to which the commitment of the mentor and institution to provide a supportive environment for the achievement of the applicant's career goals and willingness to meet reporting requirements are demonstrated. (Maximum Value: 20 points)

Estimated Amount of Available Funds: It is estimated that $1 million will be available for this second solicitation in fiscal year 2003.

Estimated Number of Awards: The estimated number of awards will be 20.

Estimated or Average Size of Each Award: The estimated size of each award will be $55,000.

Estimated Project Period: Applications may be submitted for a five-year grant period. The first budget period is September 1, 2003-August 31, 2004; the second budget period is September 1, 2004-September 29, 2005; the third budget period is September 30, 2005-September 29, 2006; the fourth budget period is September 30, 2005-September 29, 2006; the fifth budget period is September 30, 2006-September 29, 2007.

Application Requests, Availability, Dates and Addresses: Application materials are available for downloading via the Web at http://bhpr.hrsa.gov/grants.htm. In order to be considered for competition, applications must be postmarked or delivered by July 14, 2003, to the HRSA's Grants Management Office ATTN: GACA, 5600 Fishers Lane, Room 11A-33, Rockville, MD 20857. Applicants should request a legibly dated U.S. Postal postmark or obtain a legibly dated receipt from a commercial carrier or U.S. Postal Service. Private metered Postmarks shall not be acceptable as proof of timely mailing. Applications submitted after the deadline date will be returned to the applicant and not processed. Applicants should note that HRSA anticipates accepting grant applications online in the last quarter of the Fiscal Year (July through September). Please refer to the HRSA grants schedule at http://www.hrsa.gov/grants.htm for more information.

Projected Award Date: September 30, 2003.

For Further Information Contact: Kathleen Bond, Division of State, Community and Public Health, Bureau of Health Professions, HRSA, Room 8-103, Parklawn Building, 5600 Fishers Lane, Rockville, Maryland 20857. Telephone number: (301) 443-8681. E-mail: kbond@hrsa.gov.

Paperwork Reduction Act

The Application for the Geriatric Academic Career Awards Program has been approved by the Office of Management and Budget (OMB) under the Paperwork Reduction Act. The OMB clearance number is 0915-0060. The program is not subject to the provisions of Executive Order 12372, Intergovernmental Review of Federal Programs (as implemented through 45 CFR part 100).

Dated: May 29, 2003.
Elizabeth M. Duke,
Administrator.

[FR Doc. 03-14859 Filed 6-11-03; 8:45 am]

BILLING CODE 4165-15-P